DEPARTMENT OF AGRICULTURE

Forest Service

Information Collection; Request for Comments; Improve Management of the Tongass National Forest and Service to Southeast Alaska Residents

AGENCY: Forest Service, USDA.

ACTION: Notice.

SUMMARY: In accordance with the Paperwork Reduction Act of 1995, the Forest Service announces its intention to establish a new information collection. The collected information will help the Forest Service identify and meet the needs of southeast Alaska residents who use, visit, or benefit in other ways from the Tongass National Forest in southeast Alaska. Information will be collected from southeast Alaska residents.

DATES: Comments must be received in writing on or before March 20, 2001.

ADDRESSES: All comments should be addressed to Robert F. Schroeder, Forestry Sciences Lab, Forest Service, USDA, 2770 Sherwood Lane, Suite 2A, Juneau, AK 99801.

Comments also may be submitted via facsimile to (907) 586-7848 or by email to: rschroeder@fs.fed.us.

The public may inspect comments received at the Office of the Forestry Sciences Lab, Forest Service, USDA, 2770 Sherwood Lane, Suite 2A, Juneau, Alaska. Visitors are asked to call (907) 586-8811, extension 240, to facilitate entrance into the building.

FOR FURTHER INFORMATION CONTACT: Robert F. Schroeder, Forestry Sciences Lab, at (907) 586-8811, extension 240.

SUPPLEMENTARY INFORMATION:

Background

The Tongass National Forest encompasses nearly 85 percent of the land in southeast Alaska, and activities conducted on the Forest form the basis for the regional economy. Commercial fishing, timber production, mineral extraction, and the quickly growing tourism industry depend on the renewable and non-renewable natural resources of this National Forest. The Forest Service completed a revision of the Tongass Land Management Plan in 1997 and published a revised Record of Decision in the Federal Register on May 11, 1999 (64 FR 25274). The Tongass Land Management Plan and Record of Decision will serve as a blueprint for how the Forest Service will manage the Tongass National Forest over the next 10 to 15 years.

While revising the Tongass Land Management Plan in 1997, the Forest Service identified critical information needs. Some of these information needs were associated with the human component of Tongass National Forest ecosystems, that is the people and social systems that benefit from these ecosystems.

The collected data, by addressing the human component, will provide the Forest Service with a better understanding of how forest management practices influence community well-being and social change within the southeast Alaska geographic area and will help the agency meet the needs of residents of southeast Alaska who are affected by forest management actions on a day-to-day basis.

The agency will gain a better understanding of the demands that southeast Alaska residents make on the Tongass National Forest programs and services, how well information about agency programs and services are communicated to southeast Alaska residents, and how well the agency meets the needs and expectations of the residents of southeast Alaska.

Forest Service personnel from the Pacific Northwest Research Station Forestry Sciences Lab in Juneau, Alaska, will work in cooperation with University of Alaska research staff to design, administer, and evaluate these surveys. Interviewers will conduct surveys by telephone. Persons interviewed will be asked to respond to questions that include their perceptions of how the Tongass National Forest is managed by the agency, their preferences for how this National Forest should be managed, their perceptions of Tongass National Forest ecosystems, their past and planned visits to the Tongass National Forest, their use of the forest's resources, their vision of the forest of the future, their household and community economic dependence on the forest, and their attitudes and values concerning timber management.

University of Alaska and Forestry Sciences Lab scientists will tabulate the results from this information collection. The results will be available to the public and to State and Federal agencies in printed and electronic formats. The results also will be published in the Pacific Northwest Research Station's General Technical Report series and in referenced journals.

This data collection will provide information on how southeast Alaska residents use the Tongass National Forest, the extent of their economic and subsistence reliance on the forest, and their attitudes and values concerning future management of the Tongass National Forest.

Description of Information Collection

The following describes the information collection to be established:

Title: The Tongass Southeast Alaska Resident Survey.

OMB Number: New.

Expiration Date of Approval: New.

Type of Request: This is a new information collection requirement and has not yet received approval from the Office of Management and Budget.

Abstract: The Forest Service, other Federal agencies, and the State of Alaska conducted a survey in 1979 to assess the interaction of the southeast Alaska residents with the Tongass National Forest. This survey also included the perceptions these residents had of the Tongass as a natural resource. The 1979 survey provided the most recent comprehensive information on southeast Alaska residents' subsistence and recreational use of the Tongass, their attitudes and values concerning the Tongass National Forest, their interest in the development of a regional timber economy, and their perceptions of Forest Service land management practices. This important benchmark survey is now 20 years old and may not be an accurate reflection of the views, perceptions, and activities of current southeast Alaska residents.

This new information collection will provide more current data and will identify issues that have become important to the southeast Alaska residents in the intervening years. Respondents also will be asked questions that relate to issues that were not important at the time of the 1979 survey. These issues include large scale timber harvesting on national forest and private lands; a large increase in tourist and recreational use of the Tongass National Forest; expansion of tourist use into back-country areas; economic restructuring of the area that is moving away from timber, mining, and commercial fishing toward tourism and service industries; and an increasing resident and visitor population competing for limited fish and wildlife resources.

Forest Service personnel and University of Alaska research staff will conduct a random sample survey of southeast Alaska residents, through telephone interviews.

Data gathered in this information collection are not available from other sources.

Estimate of Annual Burden: 30 minutes per respondent.

Type of Respondents: Individual residents of southeast Alaska communities.

Estimated Annual Number of Respondents: 1600 per year.

Estimated Annual Number of Responses per Respondent: 1.

Estimated Total Annual Burden on Respondents: 800 hours.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: January 9, 2001.
Barbara C. Weber,
Associate Deputy Chief for Research & Development.

[FR Doc. 01-1583 Filed 1-18-01; 8:45 am]

BILLING CODE 3410-11-U